Proclamation 9326 of September 18, 2015

National Historically Black Colleges and Universities Week, 2015

By the President of the United States of America

A Proclamation

Ensuring all members of our American family have access to higher education is fundamental to our society. A college degree can help secure a place in the middle class and broaden horizons for people of every background and belief. For years prior to the Civil War, this promise was withheld from African Americans, and the lack of a structured higher education system often prohibited them from earning their rightful piece of the American dream. This week, we recognize the sacrifices made by those who fought for the right of all our Nation's students to have equal access to a quality education, and we recommit to carrying their legacy forward by pledging our support for Historically Black Colleges and Universities (HBCUs) and all who attend them.

Countless champions from every corner of our country banded together to create the first HBCUs to resolve injustices and enable more people to realize their full talents and abilities. Though the barriers to higher education for African Americans have not been completely broken down, more than 100 HBCUs across our country have educated millions of students. These institutions help build the foundation for our middle class—they are places where dreams take flight and where opportunities flourish. Generations of African Americans have learned and grown at HBCUs, which have made extraordinary contributions to academia and produced some of our Nation's finest thinkers and greatest innovators.

HBCUs are doing their part to help the United States reach our goal of having the highest proportion of college graduates in the world by 2020, because roughly half of the students that walk these halls of learning are the first in their families to go to college. Additionally, HBCUs are home to many who otherwise might not be able to afford a college education—over 70 percent of those enrolled at HBCUs are from low-income backgrounds. My Administration is dedicated to ensuring these institutions have the resources they need, and I have made clear that all Federal agencies are expected to assist with this mission and help all students grow and thrive. To further support our goals for this decade, we have committed hundreds of millions of dollars to strengthen HBCUs and provide financial aid for those who attend them, and earlier this year I announced a plan to open doors of opportunity for even more of our people by making community college free for responsible and hardworking students. In America, nobody should be denied an education because they do not have the resources to pay for it.

This week, we reaffirm our support for HBCUs and recognize the great impact they have had on students throughout history. Education is freedom—freedom to learn, to grow, and to achieve our highest goals and aspirations. Let us honor the heroes who helped extend this right to more people, and let us rededicate ourselves to defending it so that all of America's sons and daughters—no matter where they come from or what they look like—can fulfill their God-given potential.

NOW, THEREFORE, I, BARACK OBAMA, President of the United States of America, by virtue of the authority vested in me by the Constitution and the laws of the United States, do hereby proclaim September 20 through September 26, 2015, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this eighteenth day of September, in the year of our Lord two thousand fifteen, and of the Independence of the United States of America the two hundred and fortieth.

[FR Doc. 2015-24349

Filed 9-22-15; 11:15 am]

Billing code 3295-F5-P